DEPARTMENT OF THE INTERIOR

National Park Service

[NPS-NERO-ACAD-11018; 1700-SZM]

Notice of Meeting for Acadia National Park Advisory Commission

AGENCY: National Park Service, Interior.

ACTION: Notice of meeting.

SUMMARY: This notice sets the date of the Acadia National Park Advisory Commission meeting.

DATES: The public meeting of the Advisory Commission will be held on Monday, September 10, 2012, at 1:00 p.m. (Eastern).

Location: The meeting will be held at Headquarters, Acadia National Park, Bar Harbor, Maine 04609.

Agenda

The September 10, 2012, Commission meeting will consist of the following:

1. Committee reports:

—Land Conservation

—Park Use

—Science and Education

—Historic

2. Old Business

3. Superintendent's Report

4. Chairman's Report

5. Public Comments

FOR FURTHER INFORMATION CONTACT: Sheridan Steele, Superintendent, Acadia National Park, P.O. Box 177, Bar Harbor, Maine 04609, telephone (207) 288-3338.

SUPPLEMENTARY INFORMATION: The meeting is open to the public. Interested persons may make oral/written presentations to the Commission or file written statements. Such requests should be made to the Superintendent at least seven days prior to the meeting. Before including your address, phone number, email address, or other personal identifying information in your comment, you should be aware that your entire comment—including your personal identifying information—may be made publicly available at any time. While you can ask us in your comment to withhold your personal identifying information from public review, we cannot guarantee that we will be able to do so.

Dated: August 6, 2012.
Sheridan Steele,
Superintendent, Acadia National Park.

[FR Doc. 2012-21575 Filed 8-30-12; 8:45 am]

BILLING CODE 4310-2N-P